FEDERAL MINE SAFETY AND HEALTH REVIEW COMMISSION

Meeting; Sunshine Act

June 21, 2005.

TIME AND DATE: 11 a.m., Wednesday, June 29, 2005.

PLACE: The Richard V. Backley Hearing Room, 9th Floor, 601 New Jersey Avenue, NW., Washington, DC.

STATUS: Open.

MATTERS TO BE CONSIDERED: The Commission will consider and act upon the following in open session: Secretary of Labor v. Calmat Company of Arizona, Docket No. WEST 2004-86-M. (Issues include whether the Secretary had jurisdiction to cite the operator for alleged violations occurring on a private road appurtenant to a mine, and, is so, whether the operator had notice of the Secretary's jurisdiction.)

Any person attending this meeting who requires special accessibility features and/or auxiliary aids, such as sign language interpreters, must inform the Commission in advance of those needs, subject to 29 CFR 2706.150(a)(3) and 2706.160(d).

CONTACT PERSON FOR MORE INFO: Jean Ellen, (202)434-9950/(202)708-9300 for TDD Relay/1-800-877-8339 for toll free.

Jean H. Ellen,
Chief Docket Clerk.

[FR Doc. 05-12904 Filed 6-27-05; 11:18 am]

BILLING CODE 6735-01-M